DEPARTMENT OF COMMERCE

Technology Administration

Technology Administration Performance Review Board Membership

The Technology Administration Performance Review Board (TA PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the TA PRB and supersedes the list published in Federal Register Document 02-19569, Vol. 67. No. 149, page 50422, dated August 2, 2002.

Charles Clark (C), Chief, Electron & Optical Physics Division, Physics Laboratory, National Institute of Standards & Technology, Gaithersburg, MD 20899, Appointment Expires: 13/31/04 (Limited).

Belinda L. Collins (C), Deputy Director for Technology Services, National Institute of Standards & Technology, Gaithersburg, MD 20899, Appointment Expires: 13/31/04 (Limited).

Stephen Freiman (C), Deputy Director, Materials Science & Engineering Laboratory, National Institute of Standards & Technology, Gaithersburg, MD 20899, Appointment Expires: 13/31/04 (Limited).

Daniel Hurley (C), Director of Communication and Information, Infrastructure Assurance Program, National Telecommunications and Information Administration, Washington, DC 20230, Appointment Expires: 13/31/03 (General).

Christian Israel (NC), Deputy Assistant Secretary for Technology Policy, Technology Administration, Department of Commerce, Washington, DC 20230, Appointment Expires: 12/31/04 (General).

Richard F. Kayser (C), Director for Technology Services, National Institute of Standards & Technology, Gaithersburg, MD 20899, Appointment Expires: 13/31/04 (Limited).

William F. Koch (C), Deputy Director, Chemical Science & Technology Laboratory, National Institute of Standards & Technology, Gaithersburg, MD 20899, Appointment Expires: 13/31/04 (Limited).

Willie E. May (C), Chief, Analytical Chemistry Division, Chemical Science & Technology Laboratory, National Institute of Standards & Technology, Gaithersburg, MD 20899, Appointment Expires: 13/31/04 (Limited).

Tyra Dent Smith (C), Chief, Human Resources Division, Census Bureau, Washington, DC 20233, Appointment Expires: 13/31/04 (Limited).

John F. Sopko (C), Deputy Director, National Technical Information Service, Springfield, VA 22161, Appointment Expires: 13/31/04 (Limited).

Dennis Swyt (C), Chief Precision Engineering Division, Manufacturing Engineering Laboratory, National Institute of Standards & Technology, Gaithersburg, MD 20899-8210, Appointment Expires: 12/31/04 (Limited).

Kathleen Taylor (C), Chief, Employment and Labor Law Division, Assistant General Counsel for Administration, Office of the General Counsel, Office of the Secretary, Washington, DC 20230, Appointment Expires: 12/31/03 (General).

Susan Zevin (C), Deputy Director, Information Technology Laboratory, Information Technology Laboratory, National Institute of Standards & Technology, Gaithersburg, MD 20899-8900, Appointment Expires: 12/31/03 (Limited).

Dated: December 22, 2002.
Benjamin H. Wu,
Deputy Under Secretary for Technology, Technology Administration, Department of Commerce.

[FR Doc. 03-485 Filed 1-9-03; 8:45 am]

BILLING CODE 3510-18-M